Proclamation 9129 of May 16, 2014

Armed Forces Day, 2014

By the President of the United States of America

A Proclamation

In every generation, there are men and women who stand apart. They put on the uniform and put their lives on the line so the rest of us might live in a safer, freer, more just world. They defend us in times of peace, times of war, and times of crisis, both natural and man-made. On Armed Forces Day, we honor the Soldiers, Sailors, Airmen, Marines, and Coast Guardsmen who render the highest service any American can offer.

The patriots who stand sentry for our security are a proud link in an unbroken chain that stretches through the centuries. This generation has distinguished itself on mission after mission, tour after tour. Because of their heroism, the core of al-Qaeda is severely degraded and our homeland is more secure. Thanks to their extraordinary sacrifice, we are winding down more than a decade of war and strengthening alliances that extend our values. These are the gifts they have given us, and this is why we owe them a profound debt of gratitude.

It is our obligation to ensure our troops have all they need to complete their missions abroad, but we must also support them when they return home. We must care for the families who serve alongside them and fulfill our promises today, tomorrow, and forever. And we must demonstrate our thanks by building a Nation worthy of their sacrifices, a Nation that lives up to our founding ideals and allows every citizen to write their chapter of the American story.

NOW, THEREFORE, I, BARACK OBAMA, President of the United States of America, and Commander in Chief of the Armed Forces of the United States, continuing the precedent of my predecessors in office, do hereby proclaim the third Saturday of each May as Armed Forces Day.

I direct the Secretary of Defense on behalf of the Army, Navy, Air Force, and Marine Corps, and the Secretary of Homeland Security on behalf of the Coast Guard, to plan for appropriate observances each year, with the Secretary of Defense responsible for encouraging the participation and cooperation of civil authorities and private citizens.

I invite the Governors of the States, the Commonwealth of Puerto Rico, and other areas subject to the jurisdiction of the United States, to provide for the observance of Armed Forces Day within their jurisdiction each year in an appropriate manner designed to increase public understanding and appreciation of the Armed Forces of the United States. I also invite veterans, civic leaders, and organizations to join in the observance of Armed Forces Day.

Finally, I call upon all Americans to display the flag of the United States at their homes on Armed Forces Day, and I urge citizens to learn more about military service by attending and participating in the local observances of the day. I also encourage Americans to volunteer at organizations that provide support to our troops and their families.

Proclamation 8984 of May 17, 2013, is hereby superseded.

IN WITNESS WHEREOF, I have hereunto set my hand this sixteenth day of May, in the year of our Lord two thousand fourteen, and of the Independence of the United States of America the two hundred and thirty-eighth.

[FR Doc. 2014-11939

Filed 5-20-14; 11:15 am]

Billing code 3295-F4